FEDERAL RETIREMENT THRIFT INVESTMENT BOARD

Change in Meeting Agenda

The Federal Retirement Thrift Investment Board previously announced on February 11, 2009, its intention to hold an Open Meeting on February 17, 2009 at Serco Inc., 1818 Library Street, Suite 1000, Reston, Virginia 20190.

A portion of the meeting will be closed to discuss proprietary data.

The prompt and orderly conduct of business required this change and no earlier announcement was possible.

Additional information concerning this meeting may be obtained from Thomas J. Trabucco, Director, Office of External Affairs, (202) 942-1640.

Dated: February 11, 2009.
Thomas K. Emswiler,
Secretary, Federal Retirement Thrift Investment Board.

[FR Doc. E9-3338 Filed 2-12-09; 11:15 am]

BILLING CODE 6760-01-P